DEPARTMENT OF HEALTH AND HUMAN SERVICES

Centers for Disease Control and Prevention

Advisory Board on Radiation and Worker Health: Notice of Charter Renewal

This gives notice under the Federal Advisory Committee Act (Pub. L. 92-463) of October 6, 1972, that the Advisory Board on Radiation and Worker Health, Centers for Disease Control and Prevention of the Department of Health and Human Services, has been renewed for a 2-year period extending through August 3, 2007.

For further information, contact: Lewis Wade, Executive Secretary, Advisory Board on Radiation and Worker Health, Centers for Disease Control and Prevention of the Department of Health and Human Services, HHH Building, 200 Independence Avenue, SW., Room 715-H, M/S P-12, Washington, DC 20201. Telephone 202/401-2192, fax 202/260-4464, e-mail LOW0@cdc.gov.

The Director, Management and Analysis and Services Office, has been delegated the authority to sign Federal Register notices pertaining to announcements of meetings and other committee management activities, for both the Centers for Disease Control and Prevention and the Agency for Toxic Substances and Disease Registry.

Dated: August 16, 2005.
Alvin Hall,
Director, Management Analysis and Services Office, Centers for Disease Control and Prevention.

[FR Doc. 05-16635 Filed 8-22-05; 8:45 am]

BILLING CODE 4163-18-P